DEPARTMENT OF TRANSPORTATION

Maritime Administration

Marine Transportation System National Advisory Council

AGENCY: Maritime Administration, Department of Transportation.

ACTION: National Advisory Council public meeting.

SUMMARY: The Maritime Administration announces that the Marine Transportation System National Advisory Council (MTSNAC) will hold a meeting to discuss MTS needs, regional MTS outreach and education initiatives, Committee on the Marine Transportation System (CMTS) coordination, congestion issues, and disaster response and recovery efforts. A public comment period is scheduled for 8:30 a.m. to 9 a.m. on Thursday, July 27, 2006. To provide time for as many people to speak as possible, speaking time for each individual will be limited to three minutes. Members of the public who would like to speak are asked to contact Richard J. Lolich by July 20, 2006. Commenters will be placed on the agenda in the order in which notifications are received. If time allows, additional comments will be permitted. Copies of oral comments must be submitted in writing at the meeting. Additional written comments are welcome and must be filed by August 4, 2006.

DATES: The meeting will be held on Wednesday, July 26, 2006, from 8:30 a.m. to 5 p.m. and Thursday, July 27, 2006 from 8:30 a.m. to 2 p.m.

ADDRESSES: The meeting will be held in the Norfolk Marriott Waterside Hotel, 235 E Main Street, Norfolk, VA. The hotel's phone number is 757-627-4200.

FOR FURTHER INFORMATION CONTACT: Richard Lolich, (202) 366-4357; Maritime Administration, MAR-830, Room 7201, 400 Seventh St., SW., Washington, DC 20590; richard.lolich@dot.gov.

(Authority: 49 CFR 1.66)

Dated: July 5, 2006.
Murray Bloom,
Acting Secretary, Maritime Administration.

[FR Doc. E6-10756 Filed 7-10-06; 8:45 am]

BILLING CODE 4910-81-P